DEPARTMENT OF TRANSPORTATION

Surface Transportation Board

[STB Finance Docket No. 34353]

Union Pacific Railroad Company—Trackage Rights Exemption—The Burlington Northern and Santa Fe Railway Company

The Burlington Northern and Santa Fe Railway Company (BNSF) has agreed to grant overhead trackage rights to Union Pacific Railroad Company (UP) over a BNSF line of railroad between BNSF milepost 42.9 near Paola, KS, and BNSF milepost 633.0 near Joe Jct., TX,¹ a distance of approximately 428.2 miles.²

¹ On May 9, 2003, UP and BNSF filed a petition for partial revocation of this class exemption in STB Finance Docket No. 34353 (Sub-No. 1), Union Pacific Railroad Company—Trackage Rights Exemption—The Burlington Northern and Santa Fe Railway Company, wherein UP and BNSF request that the Board permit the proposed overhead trackage rights arrangement described in the present proceeding to: (1) become effective on May 16, 2003, and expire on or about June 22, 2003, for northbound trains; and (2) become effective on August 4, 2003, and expire on or about October 16, 2003, for southbound trains. That petition will be addressed by the Board in a separate decision.

² UP indicates that the milepost designations of the end points do not reflect the actual length of the trackage rights segment, because the trackage includes portions of BNSF subdivisions that have noncontiguous designations.

The transaction was scheduled to be consummated on May 16, 2003.

The purpose of the trackage rights is to permit UP to use the BNSF trackage when UP's trackage is out of service for scheduled maintenance.

As a condition to this exemption, any employees affected by the trackage rights will be protected by the conditions imposed in Norfolk and Western Ry. Co.—Trackage Rights—BN, 354 I.C.C. 605 (1978), as modified in Mendocino Coast Ry., Inc.-Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34353 must be filed with the Surface Transportation Board, 1925 K Street, NW., Washington, DC 20423-0001. In addition, one copy of each pleading must be served on Robert T. Opal, 1416 Dodge Street, Room 830, Omaha, NE 68179.

Board decisions and notices are available on our website at http://www.stb.dot.gov.

Decided: May 21, 2003.
By the Board, David M. Konschnik, Director, Office of Proceedings.
Vernon A. Williams,
Secretary.

[FR Doc. 03-13241 Filed 5-28-03; 8:45 am]

BILLING CODE 4915-00-P